DEPARTMENT OF STATE

[Public Notice: 12400]

Notice of Department of State Sanctions Actions

ACTION: Notice.

SUMMARY: The U.S. Department of State's Office of Economic Sanctions Policy and Implementation (SPI) is publishing the names of two persons that have been removed from the List of Specially Designated Nationals and Blocked Persons (SDN List) maintained by the Office of Foreign Assets Control (OFAC) and are consequently no longer subject to the prohibitions imposed pursuant to the Executive Order, “Blocking Property With Respect To Specified Harmful Foreign Activities of the Government of the Russian Federation.”

DATES: The actions described in this notice were effective on July 20, 2023.

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning OFAC sanctions programs are available from OFAC's website at http://www.treasury.gov/ofac.

Notice of Department of State Actions

On July 20, 2023, OFAC removed from the SDN List the two persons listed below, who were subject to prohibitions imposed pursuant to E.O. 14024 of April 15, 2021.

Entities

1. GOLIKOV, Andrey Fedorovich (Cyrillic: ГОЛИКОВ, Андрей Фёдорович) (a.k.a. GOLIKOV, Andrei Fedorovich), B Hariton Evskiy Pereulok 16-18-25, Moscow 107078, Russia; DOB 14 Mar 1969; POB Volzhskiy, Volgograd Region, Russia; nationality Russia; Gender Male; Passport 717619902 (Russia) (individual) [RUSSIA-EO14024] (Linked To: PUBLIC JOINT STOCK COMPANY BANK FINANCIAL CORPORATION OTKRITIE).

2. TITOVA, Elena Borisovna (Cyrillic: ТИТОВА, Елена Борисовна) (a.k.a. TITOVA, Yelena Borisovna), Russia; DOB 16 May 1967; POB Moscow, Russia; nationality Russia; Gender Female (individual) [RUSSIA-EO14024] (Linked To: PUBLIC JOINT STOCK COMPANY BANK FINANCIAL CORPORATION OTKRITIE).

Amy E. Holman,
Principal Deputy Assistant Secretary, Bureau of Economic and Business Affairs, Department of State.

[FR Doc. 2024-10027 Filed 5-7-24; 8:45 am]

BILLING CODE 4710-07-P